DEPARTMENT OF ENERGY

Federal Energy Regulatory Commission

[Docket No. RP00-328-001]

Algonquin LNG, Inc.; Notice of Compliance Filing

October 19, 2001.

Take notice that on October 15, 2001, Algonquin LNG, Inc. (ALNG) tendered for filing as part of its FERC Gas Tariff, First Revised Volume No. 1, the following revised tariff sheet:

First Revised Volume No. 1

First Revised Sheet No. 42A

ALNG states that the purpose of this filing is to comply with the Commission's September 14, 2001 Order on ALNG's Order No. 637 Compliance Filing. Specifically, ALNG is establishing a mechanism that credits to its existing customers the value of gas retained by ALNG in accordance with Section 6.2 of the General Terms and Conditions of the FERC Gas Tariff.

ALNG states that copies of its filing have been mailed to all affected customers and interested state commissions.

Any person desiring to protest said filing should file a protest with the Federal Energy Regulatory Commission, 888 First Street, N.E., Washington, D.C. 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-26857 Filed 10-24-01; 8:45 am]

BILLING CODE 6717-01-P